DEPARTMENT OF TRANSPORTATION

Federal Aviation Administration

Fifth RTCA SC-236 Wireless Airborne Intra Communications (WAIC) Joint Plenary With EUROCAE Working Group 96

AGENCY: Federal Aviation Administration (FAA), U.S. Department of Transportation (DOT).

ACTION: Fifth RTCA SC-236 Wireless Airborne Intra Communications (WAIC) Joint Plenary with EUROCAE Working Group 96.

SUMMARY: The FAA is issuing this notice to advise the public of a meeting of Fifth RTCA SC-236 Wireless Airborne Intra Communications (WAIC) Joint Plenary with EUROCAE Working Group 96.

DATES: The meeting will be held May 22 1:00 p.m.-5:00 p.m. and May 23-25, 2018, 9:00 a.m.-5:00 p.m.

ADDRESSES: The meeting will be held at: Airbus, Saint Martin du Touch, 26 Chemin de l'Espeissière, 31300 Toulouse.

FOR FURTHER INFORMATION CONTACT: Rebecca Morrison at rmorrison@rtca.org or 202-330-0654, or The RTCA Secretariat, 1150 18th Street NW, Suite 910, Washington, DC 20036, or by telephone at (202) 833-9339, fax at (202) 833-9434, or website at http://www.rtca.org.

SUPPLEMENTARY INFORMATION: Pursuant to section 10(a) (2) of the Federal Advisory Committee Act (Pub. L. 92-463, 5 U.S.C., App.), notice is hereby given for a meeting of the Fifth RTCA SC-236 Wireless Airborne Intra Communications (WAIC) Joint Plenary with EUROCAE Working Group 96. The agenda will include the following:

Tuesday, May 22, 2018 1:00 p.m.-5:00 p.m.

1. Welcome/Administrative Duties

2. IPR/Membership Call-Out and Introductions

3. Acceptance of Meeting Minutes for the Third Joint Plenary of SC-236/WG-96 Held at RTCA in February 2018

4. Review Plenary Agenda and Sub-Working Group Schedule Including Delivery Schedule for White Paper and Mops

5. Break Into Sub-Working Group Meetings When Plenary Business Complete

Wednesday, May 23-Thursday, May 24, 2018, 9:00 a.m.-5:00 p.m.

6. Continue With Plenary or Sub-Working Group Meetings

Friday, May 25, 2018, 9:00 a.m.-5:00 p.m.

7. Continue With Plenary or Sub-Working Group Meetings

8. Reports of the Sub-Working Groups

9. Status and Review of the Draft Paper SC-236 Intermediate Report (Dedicated for ICAO Job Card)

10. Review of Special Committee Schedule

11. Approve Changes and Updates to the Terms of Reference

12. New Business Discussions

13. Review of Action Items

14. Plan for Next Meeting

15. Adjourn

Attendance is open to the interested public but limited to space availability. With the approval of the chairman, members of the public may present oral statements at the meeting. Registration is required for attendance. Persons wishing to register, to present statements, or to obtain information should contact the person listed in the FOR FURTHER INFORMATION CONTACT section. Members of the public may present a written statement to the committee at any time.

Issued in Washington, DC on April 9, 2018.
Michelle Swearingen,
Systems and Equipment Standards Branch, AIR-6B0, Policy and Innovation Division, AIR-600, Federal Aviation Administration.

[FR Doc. 2018-07571 Filed 4-11-18; 8:45 am]

BILLING CODE 4910-13-P